BOARD OF GOVERNORS OF THE FEDERAL RESERVE SYSTEM

DEPARTMENT OF THE TREASURY

Agency Information Collection Activities; Renewal of a Currently Approved Collection; Prohibition on Funding of Unlawful Internet Gambling

AGENCY: Board of Governors of the Federal Reserve System (“Board”) and Departmental Offices, Department of the Treasury (“Treasury”) (collectively, the “Agencies”).

ACTION: Submission for OMB review; comment request.

SUMMARY: Currently, the Treasury is soliciting comment concerning the currently approved recordkeeping requirements associated with a joint rule, which is being renewed without change, implementing the Unlawful Internet Gambling Enforcement Act of 2006 (the “Act”). The Board has approved this information collection under its delegated authority from OMB. This notice is published jointly by the Agencies as part of their continuing effort to reduce paperwork and respondent burden. The public and other Federal agencies are invited to take this opportunity to comment on this information collection, as required by the Paperwork Reduction Act of 1995, Public Law 104-13 (44 U.S.C. 3506(c)(2)(A)).

DATES: Comments must be submitted on or before March 12, 2012.

ADDRESSES: Interested parties are invited to submit written comments to either or both of the Agencies. All comments, which should refer to the Office of Management and Budget (OMB) control numbers, will be shared between the Agencies. Direct all written comments as follows:

Board: You may submit comments, identified by OMB control no. 7100-0317, by any of the following methods:

• Agency Web Site: http://www.federalreserve.gov. Follow the instructions for submitting comments at http://www.federalreserve.gov/generalinfo/foia/ProposedRegs.cfm.

• Federal E-Rulemaking Portal: http://www.regulations.gov. Follow the instructions for submitting comments.

• Email: regs.comments@federalreserve.gov. Include docket number in the subject line of the message.

• Fax: 202/452-3819 or 202/452-3102.

• Mail: Jennifer J. Johnson, Secretary, Board of Governors of the Federal Reserve System, 20th Street and Constitution Avenue NW., Washington, DC 20551.

All public comments are available from the Board's Web site at: www.federalreserve.gov/generalinfo/foia/ProposedRegs.cfm as submitted, unless modified for technical reasons. Accordingly, your comments will not be edited to remove any identifying or contact information. Public comments may also be viewed electronically or in paper in Room MP-500 of the Board's Martin Building (20th and C Streets, NW) between 9 a.m. and 5 p.m. on weekdays.

Treasury: You may submit comments, identified by OMB control no. 1505-0204, by regular mail to Robert B. Dahl, Treasury Department Clearance Officer, U.S. Department of the Treasury, 1750 Pennsylvania Avenue NW., Room 11020, Washington, DC 20220. In addition, comments may be sent by fax to (202) 927-6797, or by electronic mail to Robert.Dahl@treasury.gov. In general, the Treasury will make all comments available in their original format, including any business or personal information provided such as names, addresses, email addresses, or telephone numbers, for public inspection and copying in the Treasury library, Room 1428, Main Treasury Building, 1500 Pennsylvania Avenue NW., Washington, DC, 20220, on official business days between the hours of 10 a.m. and 5 p.m. You can make an appointment to inspect comments by calling (202) 622-0990. All comments received, including attachments and other supporting materials, are part of the public record and subject to public disclosure. You should only submit comments that you wish to make publicly available.

Additionally, commenters may send a copy of their comments to the OMB desk officer for the Agencies by mail to the Office of Information and Regulatory Affairs, Office of Management and Budget, New Executive Office Building, Room 10235 725 17th Street NW., Paperwork Reduction Project (1505-0204 for Treasury or 7100-0317 for the Board),Washington, DC 20503 or by fax to 202-395-6974.

FOR FURTHER INFORMATION CONTACT: Requests for additional information or a copy of the collection may be obtained by contacting:

Board: Cynthia Ayouch, Federal Reserve Board Clearance Officer, (202) 452-3829, Division of Research and Statistics, Board of Governors of the Federal Reserve System, 20th and C Streets, NW., Washington, DC 20551. Telecommunications Device for the Deaf (TDD) users may call (202) 263-4869.

Treasury: Robert B. Dahl, Treasury Department Clearance Officer, (202) 622-3119, U.S. Department of the Treasury, 1750 Pennsylvania Avenue NW., Room 11020, Washington, DC, 20220.

SUPPLEMENTARY INFORMATION: Proposal to extend OMB approval for three years, without revision, the following currently approved information collection:

Title: Prohibition on Funding of Unlawful Internet Gambling.

OMB Control Numbers:

Board: 7100-0317.

Treasury: 1505-0204.

Abstract: On November 18, 2008, the Agencies published a joint notice of final rulemaking in the Federal Register (73 FR 69382) adopting a rule implementing certain provisions of the Act's prohibition on the funding of unlawful Internet gambling. Identical sets of the final joint rule with identically numbered sections were adopted by the Board and the Treasury within their respective titles of the Code of Federal Regulations (12 CFR part 233 for the Board and 31 CFR part 132 for the Treasury). The compliance date for the joint rule was June 1, 2010 (74 FR 62687). The collection of information is set out in sections 5 and 6 of the joint rule.¹ Section 5 of the joint rule, as required by the Act, requires all non-exempt participants in designated payment systems to establish and implement written policies and procedures reasonably designed to identify and block or otherwise prevent or prohibit transactions in connection with unlawful Internet gambling.² Section 6 of the joint rule provides non-exclusive examples of policies and procedures deemed by the Agencies to be reasonably designed to identify and block or otherwise prevent or prohibit transactions restricted by the Act.

¹ Section 802 of the Act requires the Agencies to prescribe joint regulations requiring each designated payment system, and all participants in such systems, to identify and block or otherwise prevent or prohibit restricted transactions through the establishment of policies and procedures reasonably designed to identify and block or otherwise prevent or prohibit the acceptance of restricted transactions. 31 U.S.C. 5364(a). Section 802 also requires the Agencies to include in the joint rule non-exclusive examples of reasonably designed policies and procedures. 31 U.S.C. 5364(b).

² 12 CFR 233.5 and 233.6; and 31 CFR 132.5 and 132.6.

Affected Public: Businesses or other for-profit and not-for-profit organizations.

Respondent burden: For the purpose of estimating burden and accounting for it with OMB, the total number of depository institutions listed for each Agency includes the number of entities regulated by the Agency or its offices and half of the remaining depository institutions and third-party processors. Each Agency is also accounting for the burden for half of the card system operators and money transmitting business operators to which the Agencies estimate the final rule applies.

Board:

Estimated number of recordkeepers: 3,300 depository institutions, 3,701 credit unions, 3 card system operators, 8 money transmitting business operators, and 3 new or de novo institutions.

Estimated average annual burden hours per recordkeeper: Ongoing annual burden of 8 hours per recordkeeper for depository institutions, credit unions, card system operators, and money transmitting business operators. One-time burden of 100 hours for new or de novo institutions.

Estimated frequency: Annually.

Estimated total annual recordkeeping burden: Ongoing burden, 56,096 hours and one-time burden, 300 hours.

Treasury:

Estimated number of recordkeepers: 4,600 depository institutions, 3,701 credit unions, 3 card system operators, 8 money transmitting business operators, and 3 new or de novo institutions.

Estimated average annual burden hours per recordkeeper: Ongoing annual burden of 8 hours per recordkeeper for depository institutions, credit unions, card system operators, and money transmitting business operators. One-time burden of 100 hours for new or de novo institutions.

Estimated frequency: Annually.

Estimated total annual recordkeeping burden: Ongoing burden, 66,496 hours and one-time burden, 300 hours.

The Agencies may not conduct or sponsor, and a person is not required to respond to, a collection of information unless the collection of information displays a valid OMB control number.

Current Actions: On September 23, 2011 the Agencies published a joint notice in the Federal Register (76 FR 59188) requesting public comment for 60 days on the extension, without revision, of the Prohibition on Funding of Unlawful Internet Gambling information collection. The comment period for this notice expired on November 22, 2011. The Agencies did not receive any comments and therefore will proceed with extending the information collection as proposed.

By the Board of Governors of the Federal Reserve System on February 6, 2012.
Jennifer J. Johnson,
Secretary of the Board.
Dated: February 2, 2012.
By the Department of the Treasury.
Robert B. Dahl,
Clearance Officer.

[FR Doc. 2012-3073 Filed 2-9-12; 8:45 am]

BILLING CODE 6210-01-P; 4810-25-P